DEPARTMENT OF COMMERCE

International Trade Administration

[A-570-831]

Fresh Garlic From the People's Republic of China: Final Results and Partial Rescission of the 18th Antidumping Duty Administrative Review; 2011-2012

AGENCY: Enforcement and Compliance, International Trade Administration, Department of Commerce.

SUMMARY: On December 24, 2013, the Department of Commerce (the Department) published its preliminary results of the 2011-2012 administrative review of the antidumping duty order on fresh garlic from the People's Republic of China (PRC).¹ This review covers 139 companies. The mandatory respondents in this review are: Hebei Golden Bird Trading Co., Ltd. (Golden Bird) and Shenzhen Xinboda Industrial Co. Ltd. (Xinboda). Following the Preliminary Results, we invited interested parties to comment. Based on our analysis of the comments received, we made changes to the margin calculations for these final results of the antidumping duty administrative review.

¹ See Fresh Garlic From the People's Republic of China: Preliminary Results and Partial Rescission of the 18th Antidumping Duty Administrative Review; 2011-2012, 78 FR 77653 (December 24, 2013) (Preliminary Results).

As discussed below, the Department is relying on total adverse facts available (AFA) with respect to Golden Bird, who failed to cooperate to the best of its ability in this administrative review. The Department is also rescinding the review with respect to Shijiazhuang Goodman Trading Co., Ltd. (Goodman), who was determined not to have any bona fide sales. These determinations and the final dumping margins are discussed below in the “Final Results” section of this notice.

DATES: Effective Date: June 30, 2014

FOR FURTHER INFORMATION CONTACT: Brandon Steele, Milton Koch, and Hilary E. Sadler, Esq., AD/CVD Operations, Office VII, Enforcement and Compliance, International Trade Administration, U.S. Department of Commerce, 14th Street and Constitution Avenue NW., Washington, DC 20230; telephone: (202) 482-4956, (202) 482-2584, and (202) 482-4340, respectively.

Background

On December 24, 2013, the Department published the preliminary results of this administrative review.² In the preliminary results, we rescinded this administrative review for two companies: Jinxiang Jinma Fruits Vegetables Products Co., Ltd. and Zhengzhou Harmoni Spice Co., Ltd. On January 23, 2014, Xinboda, Golden Bird, and the petitioners requested a hearing.³ Between January 27, 2014, and February 6, 2014, interested parties submitted surrogate value data for consideration in the final results. On April 8, 2014, the petitioners submitted new factual information along with an allegation that Golden Bird had misreported its sales of subject merchandise to the United States during the period of review (POR). From April 14 through April 18, 2014, the Department conducted a verification of Xinboda and its producer Zhengzhou Dadi Garlic Industry Co., Ltd. in Shenzhen, PRC. Between April 16, 2014, and April 28, 2014, Golden Bird responded to the petitioners' April 8, 2014, allegations and the petitioners provided a response to Golden Bird. On April 24, 2014, the Department held an ex parte meeting with the petitioners to discuss their allegations against Golden Bird. On May 7, 2014, the Department sent Golden Bird a supplemental questionnaire seeking to confirm the accuracy of the sales information reported by Golden Bird. On May 14, 2014, the petitioners, Golden Bird, Jinxiang Hejia Co., Ltd (Hejia), and Xinboda submitted case briefs. On May 19 and May 23, 2014, the Department held ex parte meetings with Golden Bird regarding Golden Bird's request for an extension to file a response to the May 7, 2014, supplemental questionnaire. On May 22, 2014, the parties submitted their rebuttal briefs. Golden Bird responded to the May 7th questionnaire on May 23, 2014. On May 27, 2014, the petitioners submitted their rebuttal briefs. On June 9, 2014, the petitioners submitted a supplemental brief regarding their allegations against Golden Bird. On June 12, 2014, Golden Bird submitted a rebuttal brief regarding the petitioners' allegations. On June 18, 2014, the Department held a public hearing.

² Id.

³ The petitioners in this review are the Fresh Garlic Producers Association and its individual members: Christopher Ranch L.L.C., The Garlic Company, Valley Garlic, and Vessey and Company, Inc.

Scope of the Order

The products subject to this antidumping duty order are all grades of garlic, whole or separated into constituent cloves, whether or not peeled, fresh, chilled, frozen, provisionally preserved, or packed in water or other neutral substance, but not prepared or preserved by the addition of other ingredients or heat processing. Fresh garlic that are subject to the order are currently classified under the Harmonized Tariff Schedule of the United States (HTSUS) 0703.20.0010, 0703.200020, 0703.20.0090, 0710.80.7060, 0710.80.9750, 0711.90.6000, and 2005.90.9700. Although the HTSUS numbers are provided for convenience and customs purposes, the written product description remains dispositive. A full description of the scope of the order is contained in the Issues and Decision memorandum dated concurrently with and hereby adopted by this notice. ⁴

⁴ See Memorandum from Christian Marsh, Deputy Assistant Secretary for Antidumping and Countervailing Duty Operations, to Paul Piquado, Assistant Secretary for Enforcement and Compliance, regarding “Issues and Decision Memorandum for the Final Results of 2011-2012 Antidumping Duty Administrative Review of fresh garlic from the People's Republic of China,” issued concurrently with this notice (Issues and Decision Memorandum).

Analysis of Comments Received

All issues raised in the case and rebuttal briefs are addressed in the Issues and Decision Memorandum, which is dated concurrently and is hereby adopted by this notice. A list of the issues that are raised in the briefs and addressed in the Issues and Decision Memorandum is in Appendix III of this notice. The Issues and Decision Memorandum is a public document and is made available to the public via Enforcement and Compliance's Antidumping and Countervailing Duty Centralized Electronic Service System (IA ACCESS). IA ACCESS is available to registered users at https://iaaccess.trade.gov, and is available to all parties in the Department's Central Records Unit, located in room 7046 of the main Department of Commerce building. In addition, a complete version of the Issues and Decision Memorandum can be found at http://enforcement.trade.gov/frn/. The signed and the electronic versions of the Issues and Decision Memorandum are identical in content.

Application of Adverse Facts Available

After the Preliminary Results, the Department requested that Golden Bird provide the Department with export documentation to corroborate Golden Bird's reported volume of U.S. sales found in its Section A response and in its U.S. sales database. Golden Bird was unable to produce documents to corroborate its Section A submission or its U.S. sales database. Therefore, based upon the post-preliminary results questionnaire responses, case briefs, and rebuttal briefs, the Department determines that it cannot rely on Golden Bird's questionnaire responses, including Section A which contains information with respect to Golden Bird's claim for separate rate status. As such, for purposes of these final results, we are treating Golden Bird as part of the PRC-wide entity. Because the PRC-wide entity, which includes Golden Bird, submitted unreliable information and failed to cooperate to the best of its ability, we determine the application of AFA is appropriate.⁵ Consistent with our practice, the Department relied upon the highest rate on the record of any segment of the proceeding, i.e., $4.71 per kilogram. The Department also corroborated that rate pursuant to section 776(c) of the Tariff Act of 1930, as amended (the Act).

⁵ See Issues and Decision Memorandum at Comment 16; see also sections 776(a)(2) and 776(b) of the Act.

Corroboration of Secondary Information Used as Adverse Facts Available

Section 776(c) of the Act provides that, where the Department selects from among the facts otherwise available and relies on “secondary information,” the Department shall, to the extent practicable, corroborate that information from independent sources reasonably at the Department's disposal. Secondary information is described in the SAA as “information derived from the petition that gave rise to the investigation or review, the final determination covering the subject merchandise, or any previous review under section 751 concerning the subject merchandise.” ⁶ The SAA states that “corroborate meant to determine that the information used has probative value.” ⁷ The Department determines that to have probative value, information must be reliable and relevant.⁸ The SAA also states that independent sources used to corroborate such evidence may include, for example, published price lists, official import statistics and customs data, and information obtained from interested parties during the particular investigation or review.⁹

⁶ See Statement of Administrative Action accompanying the Uruguay Round Agreements Act, H.R. Doc. No. 103-316, vol. 1 (1994) (SAA) at 870.

⁷ Id.

⁸ See, e.g., Tapered Roller Bearings and Parts Thereof, Finished and Unfinished, From Japan, and Tapered Roller Bearings Four Inches or Less in Outside Diameter, and Components Thereof, From Japan; Preliminary Results of Antidumping Duty Administrative Reviews and Partial Termination of Administrative Reviews, 61 FR 57391, 57392 (November 6, 1996) (unchanged in final results).

⁹ See SAA at 870; see also Notice of Preliminary Determination of Sales at Less Than Fair Value: High and Ultra-High Voltage Ceramic Station Post Insulators From Japan, 68 FR 35627, 35629 (June 16, 2003) (unchanged in final determination); and Notice of Final Determination of Sales at Less Than Fair Value: Live Swine From Canada, 70 FR 12181, 12183 (March 11, 2005).

To be considered corroborated, information must be found both reliable and relevant. As described in the Issues and Decision Memorandum, this AFA rate is both reliable and relevant. Therefore, we determine that it has probative value, and is thus in accordance with the requirement, under section 776(c) of the Act, that secondary information be corroborated to the extent practicable.

Final Determination of No Shipments

Based upon a review of arguments made by Hejia in its case brief, the Department determines that Hejia had no reviewable transactions of subject merchandise during the POR.¹⁰ For these final results, the Department finds that the fourteen companies listed in Appendix I, including Hejia, had no shipments during the POR.¹¹

¹⁰ See Issues and Decision Memorandum at Comment 17.

¹¹ See Preliminary Results, 77 FR at 77654.

Withdrawal of Review Requests, Partial Rescission of the Administrative Review, and the PRC-Wide Entity

As noted in the Preliminary Results, the Department is rescinding this review for Jinxiang Jinma Fruits Vegetables Products Co., Ltd. and Zhengzhou Harmoni Spice Co., Ltd. because: (1) Parties have timely withdrawn all review requests with respect to these companies; and, (2) these companies have separate rates from a prior completed segment of this proceeding. For these companies, antidumping duties shall be assessed at the rate entered.

Also as noted in the Preliminary Results, the Department received timely withdrawal requests for 94 other companies. These companies do not have a separate rate, and, therefore, each currently remains part of the PRC-wide entity,¹² which is subject to this administrative review. For these companies, antidumping duties shall be assessed at the PRC-wide entity rate indicated below.

¹² These 94 companies are included in the PRC-wide entity list at Appendix II.

Of the remaining companies subject to these results, 20 are not eligible for a separate rate as they did not submit separate rate applications or certifications or were not subject to a withdrawal request.¹³ As a result, the Department determines that these 20 companies are part of the PRC-wide entity.

¹³ See Appendix II.

In addition, the Department determines that Shijiazhuang Goodman Trading Co., Ltd.'s (Goodman) sales were not bona fide and rescinded its new shipper review. Because the sales subject to this review are the same sales found to be non-bona fide in the new shipper review, the Department is rescinding this administrative review with respect to Goodman. For our determination with respect to Goodman, please refer to the Issues and Decision Memorandum.

Final Results of the Administrative Review

The Department determines that the following weighted-average dumping margins exist for the POR:

Exporter | Weighted average margin (dollars per kilogram)
Shenzhen Xinboda Industrial Co., Ltd | $1.82
Qingdao Xintianfeng Foods Co., Ltd | 1.82
Shenzhen Bainong Co., Ltd | 1.82
Chegwu County Yuanxiang Industry & Commerce Co, Ltd | 1.82
Yantai Jinyan Trading, Inc | 1.82
Jinxiang Merry Vegetable Co., Ltd | 1.82
Cangshan Qingshui Vegetable Foods Co., Ltd | 1.82
Jining Yifa Garlic Produce Co., Ltd | 1.82
Jinan Farmlady Trading Co., Ltd | 1.82
Weifang Hongqiao International Logistics Co., Ltd | 1.82
Rate Applicable to the Remaining Companies Under Review | 1.82
PRC-Wide Rate (which includes Hebei Golden Bird Trading Co., Ltd) | 4.71

Disclosure

We will disclose the calculations to parties in this proceeding within five days after the date of issuance of this notice in the Federal Register in accordance with 19 CFR 351.224(b).

Assessment Rates

The Department will determine, and U.S. Customs and Border Protection (CBP) shall assess, antidumping duties on all appropriate entries covered by this review. The Department intends to issue assessment instructions to CBP 15 days after the publication date of these final results of review.¹⁴ In accordance with 19 CFR 351.212(b)(1), for Xinboda, we are calculating importer- (or customer-) specific assessment rates for the merchandise subject to this review. For any individually examined respondent whose weighted-average dumping margin is above de minimis (i.e., 0.50 percent), the Department will calculate importer-specific assessment rates on the basis of the ratio of the total amount of dumping calculated for the importer's examined sales and the total entered value of sales.¹⁵ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

¹⁴ We note that Goodman's entries are currently covered by a preliminary injunction in connection with the litigation concerning the new shipper review. See Shijiazhuang Goodman Trading Co. v. United States, CIT No. 14-00101. Therefore, these entries shall not be liquidated until the preliminary injunction is lifted.

¹⁵ See Antidumping Proceedings: Calculation of the Weighted-Average Dumping Margin and Assessment Rate in Certain Antidumping Proceedings: Final Modification, 77 FR 8101 (February 14, 2012).

For Golden Bird, entries will be assessed at the rate indicated above.

For the separate rate companies not selected for individual examination, we will instruct CBP to apply the rate listed above to entries of subject merchandise exported by such companies and entered during the period of review. This rate is the same as the rate for the one mandatory respondent with a weighted-average dumping margin determined without using the facts otherwise available.

For the PRC-wide entity, entries will be assessed at the PRC-wide rate indicated above.

The Department recently announced a refinement to its assessment practice in NME cases.¹⁶ Pursuant to this refinement in practice, for entries that were not reported in the U.S. sales databases submitted by companies individually examined during this review, but that entered under the case number of that exporter (i.e., at the individually-examined exporter's cash deposit rate), the Department will instruct CBP to liquidate such entries at the PRC-wide rate. In addition, if the Department determines that an exporter under review had no shipments of the subject merchandise, any suspended entries that entered under that exporter's case number (i.e., at that exporter's rate) will be liquidated at the PRC-wide rate.¹⁷

¹⁶ See Non-Market Economy Antidumping Proceedings: Assessment of Antidumping Duties, 76 FR 65694 (October 24, 2011).

¹⁷ Id.

Cash Deposit Requirements

The following cash deposit requirements will be effective upon publication of the final results of this review for shipments of the subject merchandise from the PRC entered, or withdrawn from warehouse, for consumption on or after the publication date, as provided by section 751(a)(2)(C) of the Act: (1) For the companies listed above, the cash deposit rate will be the weighted-average dumping margins indicated above (except, if the rate is zero or de minimis, then zero cash deposit will be required); (2) for previously investigated or reviewed PRC and non-PRC exporters not listed above that received a separate rate in a prior segment of this proceeding, the cash deposit rate will continue to be the exporter-specific rate published for the most recent period; (3) for all PRC exporters of subject merchandise that have not been found to be entitled to a separate rate, the cash deposit rate will be the PRC-wide rate of $4.71 per kilogram; and (4) for all non-PRC exporters of subject merchandise which have not received their own rate, the cash deposit rate will be the rate applicable to the PRC exporter that supplied that non-PRC exporter.

These deposit requirements, when imposed, shall remain in effect until further notice.

Notification to Importers

This notice serves as final reminder to importers of their responsibility under 19 CFR 351.402(f)(2) to file a certificate regarding the reimbursement of antidumping duties prior to liquidation of the relevant entries during this review period. Failure to comply with this requirement could result in the Secretary of Commerce's presumption that reimbursement of antidumping duties occurred and the subsequent assessment of double antidumping duties.

Return or Destruction of Proprietary Information

This notice serves as a reminder to parties subject to the administrative protective order (APO) of their responsibility concerning the disposition of proprietary information disclosed under the APO in accordance with 19 CFR 351.305(a)(3). We request timely written notification of return or destruction of APO materials, or conversion to judicial protective order. Failure to comply with the regulations and the terms of an APO is a sanctionable violation.

The Department issues and publishes this notice in accordance with sections 751(a)(1) and 777(i) of the Act, and 19 CFR 351.213.

Dated: June 23, 2014.
Paul Piquado,
Assistant Secretary for Enforcement and Compliance.

Appendix I

Companies That Have Certified No Shipments

1. Jinxiang Chengda Imp. & Exp. Co., Ltd.

2. Foshan Fuyi Food Co., Ltd.

3. Heze Ever-Best International Trade Co., Ltd.

4. Zhengzhou Huachao Industrial, Co., Ltd.

5. Qingdao Maycarrier Import & Export Co., Ltd.

6. Jinxiang Merry Vegetable Co., Ltd.

7. Cangshan Qingshui Vegetable Foods Co., Ltd.

8. Qingdao Tiantaixing Foods Co., Ltd.

9. Qingdao Sea-line International Trading Co.

10. XuZhou Simple Garlic Industry Co., Ltd.

11. Jining Yongjia Trade Co. Ltd.

12. Jinxiang Yuanxin Imp. & Exp. Co., Ltd.

13. Shandong Jinxiang Zhengyang Import & Export Co. Ltd.

14. Jinxiang Hejia Co., Ltd.

Appendix II

List of Companies Subject to the PRC-Wide Rate

1. American Pioneer Shipping

2. Anhui Dongqian Foods Ltd.

3. Anqiu Friend Food Co., Ltd.

4. Anqiu Haoshun Trade Co., Ltd.

5. APM Global Logistics (Shanghai) Co., Ltd.

6. APS Qingdao

7. Chiping Shengkang Foodstuff Co., Ltd.

8. CMEC Engineering Machinery Import & Export Co., Ltd.

9. Dongying Shunyifa Chemical Co., Ltd.

10. Dynalink Systems Logistics (Qingdao) Inc.

11. Eimskip Logistics Inc.

12. Feicheng Acid Chemicals Co., Ltd.

13. Frog World Co., Ltd.

14. Golden Bridge International, Inc.

15. Guangxi Lin Si Fu Bang Trade Co., Ltd

16. Hangzhou Guanyu Foods Co., Ltd.

17. Hebei Golden Bird Trading Co., Ltd.

18. Henan Weite Industrial Co., Ltd.

19. Hongqiao International Logistics Co.

20. Intecs Logistics Service Co., Ltd.

21. IT Logistics Qingdao Branch

22. Jinan Solar Summit International Co., Ltd.

23. Jinan Yipin Corporation Ltd.

24. Jining De-Rain Trading Co., Ltd.

25. Jining Highton Trading Co., Ltd.

26. Jining Jiulong International Trading Co., Ltd.

27. Jining Tiankuang Trade Co., Ltd.

28. Jining Trans-High Trading Co., Ltd.

29. Jinxiang County Huaguang Food Import & Export Co., Ltd.

30. Jinxiang Dacheng Food Co., Ltd.

31. Jinxiang Dongyun Freezing Storage Co., Ltd. (a/k/a Jinxiang Eastward Shipping Import and Export Limited Company)

32. Jinxiang Dongyun Import & Export Co., Ltd.

33. Jinxiang Fengsheng Import & Export Co., Ltd.

34. Jinxiang Grand Agricultural Co., Ltd.

35. Jinxiang Infarm Fruits & Vegetables Co., Ltd.

36. Jinxiang Meihua Garlic Produce Co., Ltd.

37. Jinxiang Shanyang Freezing Storage Co., Ltd.

38. Jinxiang Shenglong Trade Co., Ltd.

39. Jinxiang Tianheng Trade Co., Ltd.

40. Jinxiang Tianma Freezing Storage Co., Ltd.

41. Jinxiang Xian Baishite Trade Co., Ltd. (a/k/a Jinxiang Best Trade Co., Ltd.)

42. Juye Homestead Fruits and Vegetables Co., Ltd.

43. Kingwin Industrial Co., Ltd.

44. Laiwu Fukai Foodstuff Co., Ltd.

45. Laizhou Xubin Fruits and Vegetables

46. Linshu Dading Private Agricultural Products Co., Ltd.

47. Linyi City Hedong District Jiuli Foodstuff Co.

48. Linyi City Kangfa Foodstuff Drinkable Co., Ltd.

49. Linyi Katayama Foodstuffs Co., Ltd.

50. Linyi Tianqin Foodstuff Co., Ltd.

51. Ningjin Ruifeng Foodstuff Co., Ltd.

52. Qingdao Apex Shipping Co., Ltd.

53. Qingdao BNP Co., Ltd.

54. Qingdao Cherry Leather Garment Co., Ltd.

55. Qingdao Chongzhi International Transportation Co., Ltd.

56. Qingdao Everfresh Trading Co., Ltd.

57. Qingdao Liang He International Trade Co., Ltd

58. Qingdao Lianghe International Trade Co., Ltd.

59. Qingdao Saturn International Trade Co., Ltd.

60. Qingdao Sino-World International Trading Co., Ltd.

61. Qingdao Winner Foods Co., Ltd.

62. Qingdao XinTian Feng Food Co., Ltd.

63. Qingdao Yuankang International

64. Qufu Dongbao Import & Export Trade Co., Ltd.

65. Rizhao Huasai Foodstuff Co., Ltd.

66. Samyoung America (Shanghai) Inc.

67. Shandong Chengshun Farm Produce Trading Co., Ltd.

68. Shandong Chenhe Intl Trading Co., Ltd.

69. Shandong China Bridge Imports

70. Shandong Dongsheng Eastsun Foods Co., Ltd.

71. Shandong Garlic Company

72. Shandong Longtai Fruits and Vegetables Co., Ltd.

73. Shandong Sanxing Food Co., Ltd.

74. Shandong Wonderland Organic Food Co., Ltd.

75. Shandong Xingda Foodstuffs Group Co., Ltd.

76. Shandong Yipin Agro (Group) Co., Ltd.

77. Shanghai Ever Rich Trade Company

78. Shanghai Goldenbridge International Co., Ltd.

79. Shanghai Great Harvest International Co., Ltd.

80. Shanghai LJ International Trading Co., Ltd.

81. Shanghai Medicines & Health Products Import/Export Co., Ltd.

82. Shanghai Yijia International Transportation Co., Ltd.

83. Shenzhen Fanhui Import & Export Co., Ltd.

84. Shenzhen Greening Trading Co., Ltd.

85. Shenzhen Xunong Trade Co., Ltd.

86. Shijiazhuang Goodman Trading Co., Ltd.

87. Sunny Import & Export Limited

88. T&S International, LLC.

89. Taian Eastsun Foods Co., Ltd.

90. Taian Fook Huat Tong Kee Pte. Ltd.

91. Taian Solar Summit Food Co., Ltd.

92. Taiyan Ziyang Food Co., Ltd.

93. Tianjin Spiceshi Co., Ltd.

94. U.S. United Logistics (Ningbo) Inc.

95. V.T. Impex (Shandong) Limited

96. Weifang Chenglong Import & Export Co., Ltd.

97. Weifang He Lu Food Import & Export Co., Ltd.

98. Weifang Hong Qiao International Logistics Co., Ltd.

99. Weifang Jinbao Agricultural Equipment Co., Ltd.

100. Weifang Naike Foodstuffs Co., Ltd.

101. Weifang Shennong Foodstuff Co., Ltd.

102. Weihai Textile Group Import & Export Co., Ltd.

103. WSSF Corporation (Weifang)

104. Xiamen Huamin Import Export Company

105. Xiamen Keep Top Imp. and Exp. Co., Ltd.

106. Xinjiang Top Agricultural Products Co., Ltd.

107. XuZhou Heiners Agricultural Co., Ltd.

108. Yishui Hengshun Food Co., Ltd.

109. You Shi Li International Trading Co., Ltd.

110. Zhangzhou Xiangcheng Rainbow Greenland Food Co., Ltd.

111. Zhengzhou Dadi Garlic Industry Co., Ltd.

112. Zhengzhou Xiwannian Food Co., Ltd.

113. Zhengzhou Xuri Import & Export Co., Ltd.

114. Zhengzhou Yuanli Trading Co., Ltd.

115. Zhong Lian Farming Product (Qingdao) Co., Ltd.

Appendix III

List of Topics Discussed in the Issues and Decision Memorandum

Summary

Background

Scope of the Order

Discussion of the Issues

Comment 1: Selection of the Surrogate Country

Comment 2: Use of MERALCO to Calculate Electricity Rates

Comment 3: Excluding NME Country Data in Import Statistics

Comment 4: Excluding Data from Countries With Export Subsidies

Comment 5: Excluding Outlier (Aberrational) Data Using Statistical Tools

Comment 6: Deducting Transportation Costs

Comment 7: Adjusting Brokerage and Handling Fees in CIF

Comment 8: Adjusting the Philippine ILO 6A Labor Calculation

Comment 9: Deducting Export Letter of Credit Fees

Comment 10: Adjusting SVs to Reflect Net kg

Comment 11: Using CIF Values Instead of FOB Values

Comment 12: Wholesale versus Farm Gate Prices

Comment 13: Differential Pricing Methodology Challenge

Comment 14: Country Wide Rate Challenge

Comment 15: 15-Day Liquidation Instruction Policy Challenge

Comment 16: Fraud Allegation Concerning Golden Bird's Export Declarations to GACC

Comment 17: Hejia Ministerial Error, Certification of No Shipments

Comment 18: Separate Rate Request for Goodman

Comment 19: Weighted Average Margin Calculation for Goodman

Comment 20: Contemporaneous Calculation of SVs for Goodman

Comment 21: Separate Briefing Schedule for Golden Bird's SQR Recommendation

[FR Doc. 2014-15279 Filed 6-27-14; 8:45 am]

BILLING CODE 3510-DS-P